DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Fisheries Greater Atlantic Region Gear Identification Requirements.

OMB Control Number: 0648-0351.

Form Number(s): None.

Type of Request: Regular (extension of a currently approved information collection).

Number of Respondents: 5,339.

Average Hours per Response: One minute per gear string.

Burden Hours: 18,592.

Needs and Uses: This request is for extension of a currently approved information collection. Regulations at 50 CFR 648.84(a), (b), and (d), 648.123(b)(3), 648.144(b)(1), 648.264(a)(5), and 697.21(a) and (b) require that Federal Fisheries permit holders using certain types of fishing gear, mark the gear with specified information for the purposes of vessel and gear identification (e.g., hull identification number, Federal fishing permit number, etc.). The regulations also specify how the gear is to be marked for the purposes of visibility (e.g., buoys, radar reflectors, etc.).

The quantity of gear in this collection is distinguished by the number of attached end lines associated with each string of hooks, pots, or traps. As such, a single Federal permit holder may be responsible for marking several strings of a given gear type, or may use multiple different gear types that require marking. These gear marking requirements aid in fishery law enforcement, make the gear more visible to other vessels to aid in navigation, and provide other fisherman with information regarding the gear type being used to help prevent gear conflicts.

Affected Public: Business or other for-profit organizations; individuals or households.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 16, 2017.
Sarah Brabson,
NOAA PRA Clearance Officer.

[FR Doc. 2017-10293 Filed 5-19-17; 8:45 am]

BILLING CODE 3510-22-P